FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 19, 2020.

A. Federal Reserve Bank of Atlanta (Kathryn Haney, Assistant Vice President) 1000 Peachtree Street NE, Atlanta, Georgia 30309. Comments can also be sent electronically to Applications.Comments@atl.frb.org:

1. L. Jackson McConnell, Jr., individually, Jenelle B. McConnell, individually, The L. Jackson McConnell, Jr. Family Trust, The Mary Margaret McConnell Trust, The Lawson C. McConnell Trust, and the Pinnacle Bank Employee Stock Ownership Plan, L. Jackson McConnell, Jr., as trustee of all trusts and the plan, all of Elberton, Georgia; The Kathleen L. Korotzer Family Trust, Kathleen L. Korotzer, as trustee, Turner J. Korotzer, individually, and Nicholas C. Korotzer, individually, all of Orinda, California; The Alice M. Eberhardt Revocable Trust and The Linton W. Eberhardt, III Revocable Trust, Alice M. Eberhardt and Laura E. Still, as co-trustees of both trusts, and The Laura E. Stille Revocable Trust, Laura E. Stille, as trustee, all of Spartanburg, South Carolina; and Linton Eberhardt, IV, individually, of Atlanta, Georgia; as a group acting in concert to retain voting shares of Pinnacle Financial Corporation and thereby indirectly retain voting shares of Pinnacle Bank, both of Elberton, Georgia.

Board of Governors of the Federal Reserve System, September 29, 2020.
Yao-Chin Chao,
Assistant Secretary of the Board.

[FR Doc. 2020-21856 Filed 10-1-20; 8:45 am]

BILLING CODE P